DEPARTMENT OF COMMERCE

National Oceanic and Atmospheric Administration

[I.D. 092903E]

Proposed Information Collection; Comment Request; Fisheries Certificate of Origin

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 2, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Patricia Donley at 562-980-4033, or e-mail Pat.Donley@noaa.gov.

SUPPLEMENTARY INFORMATION:

I. Abstract

The information required by the International Dolphin Conservation Program Act (IDCPA), amendments to the Marine Mammal Protection Act (MMPA), is needed: to document the dolphin-safe status of tuna import shipments and domestic deliveries of tuna by U.S.-flag purse seine fishing vessels; to verify that import shipments of fish were not harvested by large-scale, high seas driftnets; and to verify that tuna was not harvested by an embargoed nation or one that is otherwise prohibited from exporting tuna to the United States. Forms are submitted by importers, processors, and/or purse seine vessel operators.

II. Method of Collection

Forms may be submitted by fax, mail, or electronically.

III. Data

OMB Number: 0648-0335.

Form Number: NOAA Form 370.

Type of Review: Regular submission.

Affected Public: Business or other for-profit organizations.

Estimated Number of Respondents: 350.

Estimated Time Per Response:

20 minutes for a processor response; and 5 minutes for a Captain's statement.

Estimated Total Annual Burden Hours:

1,033.

Estimated Total Annual Cost to Public:

$100.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 26, 2003.
Gwellnar Banks,
Management Analyst, Office of the Chief Information Officer.

[FR Doc. 03-25144 Filed 10-2-03; 8:45 am]

BILLING CODE 3510-22-S